DEPARTMENT OF ENERGY

Federal Energy Regulatory Commission

Combined Notice of Filings #2

Take notice that the Commission received the following electric corporate filings:

Docket Numbers: EC13-69-000.

Applicants: NewPage Corporation, GS Funds, Oaktree Capital.

Description: Joint Application for Authorization Under Section 203 of the Federal Power Act and Request for Expedited Consideration of NewPage Corporation, et al.

Filed Date: 1/25/13.

Accession Number: 20130125-5157.

Comments Due: 5 p.m. ET 2/15/13.

Take notice that the Commission received the following electric rate filings:

Docket Numbers: ER12-2611-002.

Applicants: NorthWestern Corporation.

Description: SA 646—SGIA with NPS re Mammoth Project to be effective 9/12/2012.

Filed Date: 1/25/13.

Accession Number: 20130125-5118.

Comments Due: 5 p.m. ET 2/15/13.

Docket Numbers: ER13-780-001.

Applicants: New York Independent System Operator, Inc.

Description: NYISO amendment to correct effective date in eTariff to be effective 3/20/2013.

Filed Date: 1/25/13.

Accession Number: 20130125-5161.

Comments Due: 5 p.m. ET 2/15/13.

Docket Numbers: ER13-800-000.

Applicants: MRL Energy, LLC.

Description: Cancellation of MBR Tariff to be effective 1/25/2013.

Filed Date: 1/25/13.

Accession Number: 20130125-5117.

Comments Due: 5 p.m. ET 2/15/13.

Docket Numbers: ER13-801-000.

Applicants: Midwest Independent Transmission System, Ameren Illinois Company.

Description: Midwest Independent Transmission System Operator, Inc. submits tariff filing per 35: 01-25-13 AIC Attachment O Compliance filing to be effective 1/2/2013.

Filed Date: 1/25/13.

Accession Number: 20130125-5176.

Comments Due: 5 p.m. ET 2/15/13.

Take notice that the Commission received the following qualifying facility filings:

Docket Numbers: QF12-174-000.

Applicants: Winona County Wind, LLC.

Description: Supplement to January 15, 2013 Refund Report of Winona County Wind, LLC.

Filed Date: 1/25/13.

Accession Number: 20130125-5150.

Comments Due: 5 p.m. ET 1/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 25, 2013.
Nathaniel J. Davis, Sr.,
Deputy Secretary.

[FR Doc. 2013-02185 Filed 1-31-13; 8:45 am]

BILLING CODE 6717-01-P